SMALL BUSINESS ADMINISTRATION

[Declaration of Disaster #3634]

Commonwealth of Puerto Rico; Amendment #3

In accordance with a notice received from the Department of Homeland Security—Federal Emergency Management Agency—effective October 19, 2004, the above numbered declaration is hereby amended to include the Municipality of Gurabo as a disaster area due to damages caused by Tropical Storm Jeanne. All other municipalities contiguous to the above named primary municipality have previously been declared.

In addition, Añasco, Ciales, Dorado, Fajardo, Florida, Guayanilla, Isabela, Juana Díaz, Juncos, Lares, Moca, Peñuelas, Ponce, Salinas, San Juan, San Lorenzo, San Sebastian, Vega Alta, Vega Baja, and Yauco Municipalities in the Commonwealth of Puerto Rico are also eligible under Public Assistance and our disaster loan program is available for private non-profit organizations that provide essential services of a governmental nature in those municipalities.

All other information remains the same, i.e., the deadline for filing applications for physical damage is November 22, 2004, and for economic injury the deadline is June 21, 2005.

(Catalog of Federal Domestic Assistance Program Nos. 59002 and 59008.)
Dated: October 25, 2004.
Herbert L. Mitchell,
Associate Administrator for Disaster Assistance.

[FR Doc. 04-24279 Filed 10-29-04; 8:45 am]

BILLING CODE 8025-01-P